DEPARTMENT OF LABOR

Employment and Training Administration

[TA-W-85,497]

Invista S.A.R.L.; Apparel Division; A Wholly-Owned Subsidiary of Koch Industries, Inc.; Waynesboro, Virginia; Notice of Affirmative Determination Regarding Application for Reconsideration

By application dated December 14, 2014, United Workers, Inc., International Brotherhood of Dupont Workers, Local 381, requested administrative reconsideration of the negative determination regarding workers' eligibility to apply for worker adjustment assistance applicable to workers and former workers of INVISTA S.a.r.l., a wholly-owned subsidiary of Koch Industries, Inc., Waynesboro, Virginia. The determination was issued on November 14, 2014 and the Notice of Determination was published in the Federal Register on December 10, 2014 (79 FR 73339).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that worker separations were unrelated to a shift in production to a foreign country or to imports by the subject firm or its customers.

The request for reconsideration asserts that the workers at the subject firm have been impacted by a continuous transfer of production to foreign countries.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 15th day of January, 2015.
Michael W. Jaffe,
Certifying Officer, Office of Trade Adjustment Assistance.

[FR Doc. 2015-03269 Filed 2-17-15; 8:45 am]

BILLING CODE 4510-FN-P